ENVIRONMENTAL PROTECTION AGENCY

[FRL-10015-99-Region 5]

Clean Air Act Operating Permit Program; Petition for Objection to State Operating Permit for Midwest Generation, LLC, Waukegan Generating Station, Lake County, Illinois

AGENCY: Environmental Protection Agency (EPA).

ACTION: Notice of final order on petition for objection to a Clean Air Act title V operating permit.

SUMMARY: The Environmental Protection Agency (EPA) Administrator signed an Order dated September 15, 2020, denying a Petition dated August 5, 2016 from Sierra Club, Respiratory Health Association and Environmental Law and Policy Center. The Petition requested that EPA object to a Clean Air Act (CAA) title V operating permit issued by the Illinois Environmental Protection Agency (IEPA) to Midwest Generation for the Waukegan Generating Station located in Waukegan, Lake County, Illinois.

ADDRESSES: The final Order, the Petition, and other supporting information are available for public inspection during normal business hours at the following address: U.S. Environmental Protection Agency, Region 5, Air and Radiation Division, 77 West Jackson Boulevard, Chicago, Illinois 60604. This facility is open from 8:30 a.m. to 4:30 p.m., Monday through Friday, excluding Federal holidays and facility closures due to COVID-19. We recommend that you telephone Danny Marcus, Environmental Engineer, at (312) 353-8781 before visiting the Region 5 office. Additionally, the final Order and Petition are available electronically at: https://www.epa.gov/title-v-operating-permits/title-v-petition-database.

FOR FURTHER INFORMATION CONTACT: Danny Marcus, Environmental Engineer, Air Permits Section, Air Programs Branch (AR-18J), Environmental Protection Agency, Region 5, 77 West Jackson Boulevard, Chicago, Illinois 60604, (312) 353-8781, marcus.danny@epa.gov.

SUPPLEMENTARY INFORMATION: The CAA affords EPA a 45-day period to review and object to, as appropriate, operating permits proposed by state permitting authorities under title V of the CAA. Section 505(b)(2) of the CAA authorizes any person to petition the EPA Administrator to object to a title V operating permit within 60 days after the expiration of EPA's 45-day review period if EPA has not objected on its own initiative. Petitions must be based only on objections to the permit that were raised with reasonable specificity during the public comment period provided by the state, unless the petitioner demonstrates that it was impracticable to raise these issues during the comment period or unless the grounds for the issues arose after this period.

EPA received the Petition from Sierra Club, Respiratory Health Association and Environmental Law and Policy Center, dated August 5, 2016, requesting that EPA object to the issuance of operating permit no. 95090047 issued by IEPA to Midwest Generation for the Waukegan Generating Station located in Waukegan, Lake County, Illinois. The Petition alleged that the permit lacked a compliance schedule for opacity violations, had improper involvement of outside entities, contained inadequate monitoring of material handling processes, contained inadequate testing and evaluations of air emissions from boilers, and lacked adequate recordkeeping for opacity emissions exceedances.

On September 15, 2020, the EPA Administrator issued an Order denying the Petition. The Order explains the basis for EPA's decision.

Sections 307(b) and 505(b)(2) of the CAA provide that a petitioner may request judicial review of those portions of an order that deny issues in a petition. Any petition for review of the Administrator's September 15, 2020 Order shall be filed in the United States Court of Appeals for the appropriate circuit no later than December 21, 2020.

Authority: 42 U.S.C. 7401 et seq.

Dated: October 19, 2020.
Kurt Thiede,
Regional Administrator, Region 5.

[FR Doc. 2020-23465 Filed 10-21-20; 8:45 am]

BILLING CODE 6560-50-P